ENVIRONMENTAL PROTECTION AGENCY

40 CFR Part 62

[EPA-R06-OAR-2006-1028; FRL-8455-2]

Approval and Promulgation of State Plan for Designated Facilities and Pollutants: Louisiana; Clean Air Mercury Rule (CAMR)

AGENCY: Environmental Protection Agency (EPA).

ACTION: Proposed rule.

SUMMARY: EPA is proposing to approve the State Plan submitted by Louisiana on October 25, 2006. The plan addresses the requirements of EPA's Clean Air Mercury Rule (CAMR), promulgated on May 18, 2005 and subsequently revised on June 9, 2006. EPA is proposing that the submitted State Plan fully implements the CAMR requirements for Louisiana.

CAMR requires States to regulate emissions of mercury (Hg) from large coal-fired electric generating units (EGUs). CAMR establishes State budgets for annual EGU Hg emissions and requires States to submit State Plans that ensure that annual EGU Hg emissions will not exceed the applicable State budget. States have the flexibility to choose which control measures to adopt to achieve the budgets, including participating in the EPA-administered CAMR cap-and-trade program. In the State Plan that EPA is approving, Louisiana would meet CAMR requirements by participating in the EPA administered cap-and-trade program addressing Hg emissions.

DATES: Comments must be received on or before September 17, 2007.

ADDRESSES: Comments may be mailed to Mr. Matthew Loesel, Air Permits Section (6PD-R), Environmental Protection Agency, 1445 Ross Avenue, Suite 1200, Dallas, Texas 75202-2733. Comments may also be submitted electronically or through hand delivery/courier by following the detailed instructions in the Addresses section of the direct final rule in the final rules section of the Federal Register.

FOR FURTHER INFORMATION CONTACT: Mr. Matthew Loesel, Air Permitting Section (6PD-R) U.S. EPA, Region 6, Multimedia Planning and Permitting Division (6PD), 1445 Ross Avenue, Dallas, TX 75202-2733, telephone (214) 665-8544; fax number 214-665-7263; or electronic mail at loesel.matthew@epa.gov.

SUPPLEMENTARY INFORMATION: In the final rules section of this Federal Register, EPA is approving the Louisiana State Plan.

The EPA is taking direct final action without prior proposal because EPA views this as a non-controversial action and anticipates no adverse comments. A detailed rationale for this is set forth in the preamble to the direct final rule. If no adverse comments are received in response to this action, no further activity is contemplated. If EPA receives adverse comments, the direct final rule will be withdrawn, and all public comments received will be addressed in a subsequent final rule based on this proposed rule. EPA will not institute a second comment period on this action. Any parties interested in commenting must do so at this time. Please note that if EPA receives adverse comments on an amendment, paragraph, or section of this rule and if that provision may be severed from the remainder of the rule, EPA may adopt as final those provisions of the rule that are not subject of an adverse comment. For additional information, see the direct final rule which is published in the Rules section of this Federal Register.

Authority: This action is issued under the authority of section 111 of the Clean Air Act, as amended, 42 U.S.C. 7412.

Dated: August 8, 2007.
Lawrence Starfield,
Acting Regional Administrator, Region 6.

[FR Doc. E7-16170 Filed 8-16-07; 8:45 am]

BILLING CODE 6560-50-P